FEDERAL MINE SAFETY AND HEALTH REVIEW COMMISSION

Sunshine Act Meeting

TIME AND DATE: 10:00 a.m., Friday, September 17, 2021.

PLACE: This meeting will be conducted through a videoconference involving all Commissioners. Any person wishing to listen to the proceeding may call the number listed below.

STATUS: Open.

MATTERS TO BE CONSIDERED: The Commission will consider and act upon the following in open session: Secretary of Labor v. Consol Pennsylvania Coal Co., LLC, Docket No. PENN 2019-0094 (Issues include whether the Judge erred in concluding that the location of a lifeline violated a safety standard and constituted an S&S violation.).

Any person attending this meeting who requires special accessibility features and/or auxiliary aids, such as sign language interpreters, must inform the Commission in advance of those needs. Subject to 29 CFR 2706.150(a)(3) and 2706.160(d).

CONTACT PERSON FOR MORE INFORMATION: Emogene Johnson, (202) 434-9935/(202) 708-9300 for TDD Relay/1-800-877-8339 for toll free.

Phone Number for Listening to Meeting: 1-(866) 236-7472.

Passcode: 678-100.

Authority: 5 U.S.C. 552b.

Dated: September 3, 2021.
Sarah L. Stewart,
Deputy General Counsel.

[FR Doc. 2021-19494 Filed 9-3-21; 4:15 pm]

BILLING CODE 6735-01-P